DEPARTMENT OF THE INTERIOR

National Park Service

National Register of Historic Places; Notification of Pending Nominations and Related Actions

Nominations for the following properties being considered for listing or related actions in the National Register were received by the National Park Service before March 13, 2010. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by April 14, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Elmore County

Tallassee Falls Manufacturing Company, 1844 Old Mill Rd, Tallassee, 10000198

Jefferson County

Tarrant City Downtown Historic District, Parts of E. Lake Blvd., Ford Ave., Jackson Blvd., Pinson St., Wharton Ave., Tarrant, 10000199

Madison County

Lincoln Mill and Mill Village Historic District, Bounded by Meridian St., Oakwood Ave., Front St., Mountain View Dr., Davidson St., Cottage St., and King Ave., Huntsville, 10000200

ARIZONA

Pima County

Menlo Park Historic District, 13 Subdivisions irregularly bounded around Grande Ave. and W. Congress St. intersection, Tucson, 10000201

FLORIDA

Palm Beach County

Palm Beach Hotel, 235-251 Sunrise Ave., Palm Beach, 10000212

IOWA

Marion County

Peoples Nationals Bank, 717 Main St., Pella, 10000202

MISSOURI

Grundy County

Trenton High School, 1312 E. 9th St., Trenton, 10000203

Jackson County

Sherwood Manufacturing Company Building, (Lee's Summit, Missouri MPS) 123 SE 3rd St., Lees' Summit, 10000204

Saline County

Sweet Springs Historic District Boundary Decrease, (Sweet Springs MPS) 200-217 W. Lexington Ave., and 211 Marshall St., Sweet Springs, 10000206

St. Louis Independent City

Sligo Iron Store Co. Buildings, 1301 N. Sixth St., St. Louis, 10000205

NORTH CAROLINA

Harnett County

Johnson Farm, 2095 Kipling Rd., (S side SR 1403, .2 mi E of SR 1425), Kipling, 10000207

Rowan County

J.C. Price High School, 1300-1400 W. Bank St., Salisbury, 10000208

UTAH

Salt Lake County

Wells Historic District, Roughly bounded by 700 E., State St., 1300 S., and 2100 S., Salt Lake City, 10000210

WISCONSIN

Sauk County

Man Mound Boundary Increase, Address Restricted (Late Woodland Stage in Archeological Region 8 MPS) Man Mound Road, Town of Greenfield, 10000211

[FR Doc. 2010-7152 Filed 3-29-10; 8:45 am]

BILLING CODE P